DEPARTMENT OF THE INTERIOR

National Park Service

Notice of Availability of Draft Director's Order Concerning National Park Service (NPS) Policies and Procedures for Recovering Costs Associated With Providing Utility Services to Non-NPS Users

AGENCY: National Park Service, Department of the Interior.

ACTION: Notice of availability.

SUMMARY: The National Park Service is proposing to adopt a Director's Order setting forth the policies and procedures under which the NPS will recover expenses for providing utilities to non-NPS entities. These expenses include, but are not limited to, annual operating costs, cyclical repair and rehabilitation costs, and capital investment cost. 16 U.S.C. 1b(4) provides authority for the NPS to furnish “on a reimbursement of appropriation basis, all types of utility services to concessioners, contractors, permittees, or other users of such services, within the National Park System.” The Director's Order provides policies and procedures for consistent application of this guidance throughout the National Park Service.

DATES: Written comments will be accepted until January 4, 2010.

ADDRESSES: Draft Director's Order #35B is available on the Internet at http://www.nps.gov/policy/DO-35Bdraft.htm. Requests for copies of, and written comments on, the Director's Order should be sent to Tim Harvey, Chief, Park Facility Management Division, 1849 C Street, NW., Washington DC 20240, or to his Internet address: tim_harvey@nps.gov.

FOR FURTHER INFORMATION CONTACT: Tim Harvey at (202) 513-7044.

SUPPLEMENTARY INFORMATION: When the NPS adopts documents containing new policy or procedural requirements that may affect parties outside the NPS, the documents are first made available for public review and comment before being adopted. A number of contacts have been made, prior to the issuance of this notice, to solicit input from potentially impacted groups and organizations.

Public Availability of Comments: Before including your address, phone number, e-mail address, or other personal identifying information in your comment, you should be aware that your entire comment—including your personal identifying information—may be made publicly available at any time. While you can ask us in your comment to withhold your personal identifying information from public review, we cannot guarantee that we will be able to do so.

Dated: October 30, 2009.
Stephen E. Whitesell,
Associate Director, Park Planning, Facilities, and Lands.

[FR Doc. E9-27520 Filed 11-16-09; 8:45 am]

BILLING CODE 4312-52-P